Title 3—

The President

Presidential Determination No. 2000-15 of February 24, 2000

U.S. Contribution to the Korean Peninsula Energy Development Organization (KEDO): Certification and Waiver Under the Heading “Nonproliferation, Anti-Terrorism, Demining and Related Programs” in Title II of the Foreign Operations, ­Export Financing, and Related Programs Appropriations Act, 2000, as Enacted in Public Law 106-113

Memorandum for the Secretary of State

Pursuant to section 576(b) of the Foreign Operations, Export Financing, and Related Programs Appropriations Act, 2000 (the Act), as enacted in the Omnibus Consolidated Appropriations Act, 2000 (Public Law 106-113), I hereby certify that:

(1) the parties to the Agreed Framework have taken and continue to take demonstrable steps to implement the Joint Declaration on Denuclearization of the Korean Peninsula in which the Government of North Korea has committed not to test, manufacture, produce, receive, possess, store, deploy, or use nuclear weapons, and not to possess nuclear reprocessing or uranium enrichment facilities;

(2) the parties to the Agreed Framework have taken and continue to take demonstrable steps to pursue the North-South dialogue; and

(3) North Korea is complying with all provisions of the Agreed Framework.

Pursuant to the authority vested in me by section 576(d) of the Act, I hereby determine that it is vital to the national security interests of the United States to furnish up to $15 million in funds made available under the heading “Nonproliferation, Anti-Terrorism, Demining, and Related Programs” of the Act, for assistance for KEDO, and therefore I hereby waive the requirement in section 576(b) to certify that:

(4) North Korea has not diverted assistance provided by the United States for purposes for which it was not intended; and

(5) North Korea is not seeking to develop or acquire the capability to enrich uranium, or any additional capability to reprocess spent nuclear fuel.

You are hereby authorized and directed to report this certification and waiver to the Congress and to arrange for its publication in the Federal Register.

wj

THE WHITE HOUSE,

Washington, February 24, 2000.

[FR Doc. 00-5070

Filed 2-29-00; 8:45 am]

Billing code 4710-10-M